DEPARTMENT OF HOUSING AND URBAN DEVELOPMENT

[Docket No. FR-4904-N-01]

Notice of Submission of Proposed Information Collection to OMB Emergency Comment Request; Self-Help Homeownership Opportunity Program (SHOP)

AGENCY: Office of the Assistant Secretary for Community Planning and Development, HUD.

ACTION: Notice of proposed information collection.

SUMMARY: The proposed information collection requirement described below has been submitted to the Office of Management and Budget (OMB) for emergency review and approval, as required by the Paperwork Reduction Act. The Department is soliciting public comments on the subject proposal.

DATES: Comment Due Date: February 6, 2004.

ADDRESSES: Interested persons are invited to submit comment regarding this proposal. Comments must be received within fourteen (14) days from the date of this Notice. Comments should refer to the proposal by name/or OMB approval number (2577-0157) and should be sent to: Melaine Kadlic, HUD Desk Officer, Office of Management and Budget, New Executive Office Building, Washington, DC 20503; e-mail: Melanie_Kadlic@omb.eop.gov; fax: (202) 395-6974.

FOR FURTHER INFORMATION CONTACT: Wayne Eddins, Reports Management Officer, AYO, Department of Housing and Urban Development, 451 Seventh Street, SW., Washington, DC 20410; e-mail: Wayne_Eddins@HUD.Gov; telephone (202) 708-2374. This is not a toll-free number. Copies of documents submitted to OMB may be obtained from Mr. Eddins or on HUD's Web site at http://www5.hud.gov:63001/po/i/icbts/collectionsearch.cfm.

SUPPLEMENTARY INFORMATION: This notice informs the public that the U.S. Department of Housing and Urban Development (HUD) has submitted to OMB, for emergency processing, a proposed information collection for the Self-Help Homeownership Opportunity Program (SHOP).

This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

SHOP provides funds for eligible non-profit organizations to purchase home sites and develop or improve the infrastructure needed to set the stage for sweat equity and volunteer-based homeownership programs for low-income persons and families. SHOP is authorized by the Housing Opportunity Program Extension Act of 1996, Section 11, and is subject to other Federal crosscutting requirements. SHOP funds are used for eligible expenses to develop decent, safe and sanitary non-luxury housing for low-income persons and families who otherwise would not become homeowners. Home buyers must be willing to contribute significant amounts of their own sweat equity toward the construction of the housing units. HUD awards grants to national or regional nonprofit public or private organizations or consortia for self-help housing project of at least 30 homes.

This notice also lists the following information:

Title of Proposal: Self-Help Homeownership Opportunity Program (SHOP).

Description of Information Collection: This is a proposed information collection for reporting requirements under the SHOP. SHOP grants are used to fund acquisition and infrastructure improvements to new self-help housing projects, to be occupied by persons meeting the definition of low-income. Grant recipients are required to report to HUD on a quarterly and annual basis regarding the success of their SHOP programs. Information collected form SHOP recipients includes proposed accomplishments, actual accomplishments, and financial, unit and beneficiary information. The information collected will be used by HUD to assess the performance of SHOP grant recipients and the success of the program.

OMB Control Number: 2577-0157

Agency Form Numbers: HUD-424, HUD-424B, HUD-424CB, SF-LLL, HUD-2880, HUD-2990, HUD-2993, HUD-40215, HUD-40216, HUD-40217 and HUD-40218.

Members of the affected public: National or regional nonprofit public or private organizations or consortia.

Estimation of the total number of hours needed to prepare the information collection including number of respondents, frequency of response, and hours of response:

Paperwork requirement | Frequency of response | Hours per response | Number of respondents | Annual hour burden
HUD-424 | 1 | .25 | 9 | 2.25
HUD-424B | 1 | .25 | 9 | 2.25
HUD-424CB | 1 | .25 | 9 | 18
SF-LLL | 1 | .25 | 9 | 2.25
HUD-2880 | 1 | .25 | 9 | 2.25
HUD-2990 | 1 | .5 | 9 | 4.5
HUD-2993 | 1 | 0 | 9 | 0
Rating Factor 1 | 1 | 4 | 9 | 36
Rating Factor 2 | 1 | 4 | 9 | 36
Rating Factor 3 | 1 | 6 | 9 | 54
Rating Factor 4 | 1 | 3 | 9 | 27
Rating Factor 5 | 1 | 4 | 9 | 36
HUD-40215 | 4 | 2.25 | 16 | 144
HUD-40216 | 1 | 9 | 16 | 144
HUD-40217 | 4 | 2.25 | 16 | 144
HUD-40218 | 4 | 2.25 | 912 | 8,055
Total Annual Hour Burden | (¹) | (¹) | 3,900 | 8,861
¹ Varies.

Authority: The Paperwork Reduction Act of 1995, 44 U.S.C. chapter 35, as amended.

Dated: January 16, 2004.
William Eargle, Jr.,
Deputy Assistant Secretary for Operations.

[FR Doc. 04-1442 Filed 1-22-04; 8:45 am]

BILLING CODE 4210-29-M